FEDERAL COMMUNICATIONS COMMISSION

Public Information Collections Approved by Office of Management and Budget

June 7, 2000.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0942.

Expiration Date: 12/31/2000.

Title: In the Matter of Access Charge Reform, Price Cap Performance Review for Local Exchange Carriers, Low-Volume Long Distance Users, Federal-State Joint Board on Universal Service.

Form No.: N/A.

Respondents: Business or other for profit.

Estimated Annual Burden: 27 respondents; 472.5 hours per response (avg). 12,758 total annual burden hours.

Estimated Annual Reporting and Recordkeeping Cost Burden: $0.

Frequency of Response: On occasion; Quarterly; Annually; Recordkeeping; Third Party Disclosure.

Description: By adopting the Sixth Report and Order in CC Docket No. 96-262 (released May 31, 2000), the Commission took action to further accelerate the development of competition in the local and long-distance telecommunications markets, and to further establish explicit universal service support that will be sustainable in an increasingly competitive marketplace, pursuant to the mandate of the 1996 Act. The Commission requires the following information to be reported to the following entities under the CALLS Proposal: a. Tariff Filing: The Report and Order requires price cap LECs to modify their annual access tariff filings in the following ways: (1) Subtracting from their next tariff filings the estimated universal service support that they will receive from USAC over the next year; (2) consolidating the access revenues that they examine to determine whether to charge the new SLC cap or the actual cost of their access lines; (3) if they choose to deaverage their SLCs, adding up the components of their averaged traffic sensitive charges to test whether the charges have reached the target rate; (4) calculating their SLC rates by Unbundled Network Element Zone. (No. of respondents: 18; hours per response: 2 hours; total annual burden 36 hours). b. Quarterly and Annual Data Filings: The Report and Order requires each price cap or competitive LEC that wishes to receive support from the interstate access universal service support mechanism to submit quarterly to USAC data showing the number of lines it served in a study area as of the last business day of the previous quarter. (Price Cap LECs—Line Counts—No. of respondents: 18; hours per response 5 hours; total annual burden: 360 hours). (Competitive LECs—No. of respondents: 9; hours per response: 20 hours; total annual burden: 180 hours). In addition to line count information, price cap LECs must file with USAC on June 30, 2000, October 15, 2000, April 16, 2001 and annually after that, price cap revenue data, prices for unbundled network element (UNE) loops and line ports, and UNE zone boundary information. (Price Cap LECs—Price and Revenue Data—No. of respondents: 18; hours per response: 675 average; total annual burden: 12,162 first year, 6081 annually thereafter). c. Cost Support Information: The Report and Order requires price cap LECs who choose not to follow the voluntary portions of the CALLS Proposal to submit cost support information, which the Commission would use to set their access rate levels. (No. of respondents: 2; hours per response: 10; total annual burden: 20 hours). The Commission will use the modified tariff information filed by the price cap LECs to ensure compliance with the various interstate access reforms of the CALLS proposal. USAC will use the line count and other information filed by price cap and competitive LECs to determine, on a per-line basis, the amount that the carrier will receive from the interstate access universal service support mechanism. The Commission will use the cost support information filed by the price cap LECs to ensure that their interstate access rates are just and reasonable, as required by section 201(b) of the Communications Act. Obligation to respond: Required to obtain or retain benefits. Public reporting burden for the collection of information is as noted above. Send comments regarding the burden estimate or any other aspect of the collections of information, including suggestions for reducing the burden to Performance Evaluation and Records Management, Washington, DC 20554.

Federal Communications Commission.
Magalie Roman Salas,
Secretary.

[FR Doc. 00-14983 Filed 6-13-00; 8:45 am]

BILLING CODE 6712-01-U